ENVIRONMENTAL PROTECTION AGENCY

[FRL-9249-7]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2300.07; Regulation to Establish Mandatory Reporting of Greenhouse Gases (Technical Correction); 40 CFR parts 86, 89, 90, 94, 98, 600, 1033, 1039, 1042, 1045, 1048, 1051, 1054 and 1065, was approved on 12/08/2010; OMB Number 2060-0629; expires on 11/30/2012; Approved without change.

EPA ICR Number 2396.01; Mandatory Reporting of Greenhouse Gases from Magnesium Production, Underground Coal Mines, Industrial Wastewater Treatment, and Industrial Waste Landfills (Final Rule); 40 CFR part 98, subparts T, FF, II, and TT, was approved on 12/09/2010; OMB Number 2060-0647; expires on 12/31/2013; Approved without change.

EPA ICR Number 2375.01; Implementation of Ambient Air Protocol Gas Verification Program (New Collection); 40 CFR part 58; was approved on 12/09/2010; OMB Number 2060-0648; expires on 12/31/2013; Approved without change.

EPA ICR Number 2236.03; 8-Hour Ozone National Ambient Air Quality Standard Implementation Rule (Renewal); 40 CFR 51.908, 51.910 and 51.912; was approved on 12/09/2010; OMB Number 2060-0594; expires on 12/31/2013; Approved without change.

EPA ICR Number 1593.08; Air Emission Standards for Tanks, Surface Impoundments and Containers; 40 CFR part 264, subpart CC and 40 CFR part 265, subpart CC, was approved on 12/15/2010; OMB Number 2060-0318; expires on 12/31/2013; Approved without change.

EPA ICR Number 2256.03; NESHAP for Acrylic/Modacrylic Fibers Prod., Carbon Black Prod., Chemical Mfg: Chromium Compounds, Flexible Polyurethane Foam Production/Fabrication, Lead Acid Battery Mfg, Wood Preserving (Renewal); 40 CFR part 63, subparts A, LLLLLL, MMMMMM, NNNNNN, OOOOOO, PPPPPP and QQQQQQ; was approved on 12/15/2010; OMB Number 2060-0598; expires on 12/31/2013; Approved without change.

EPA ICR Number 1687.08; NESHAP for Aerospace Manufacturing and Rework Facilities; 40 CFR part 63, subparts A and GG; was approved on 12/15/2010; OMB Number 2060-0314; expires on 12/31/2013; Approved without change.

EPA ICR Number 1071.10; NSPS for Stationary Gas Turbines; 40 CFR part 60, subparts A and GG; was approved on 12/17/2010; OMB Number 2060-0028; expires on 12/31/2013; Approved with change.

EPA ICR Number 2376.02; Regulation to Establish Mandatory Reporting of Greenhouse Gases (Final Rule for Petroleum and Natural Gas, Subpart W); 40 CFR part 98, subpart W; was approved on 12/21/2010; OMB Number 2060-0651; expires on 12/31/2013; Approved without change.

EPA ICR Number 2372.02; Mandatory Reporting of Greenhouse Gases (Final Rule for Injection and Geological Sequestration of Carbon Dioxide); 40 CFR part 98, subparts RR and UU; was approved on 12/21/2010; OMB Number 2060-0649; expires on 12/31/2013; Approved without change.

EPA ICR Number 2373.02; Mandatory Reporting of Greenhouse Gases (Final Rule for Additional Sources of Fluorinated Greenhouse Gases); 40 CFR part 98, subparts I, L, DD, QQ, and SS; was approved on 12/21/2010; OMB Number 2060-0650; expires on 12/31/2013; Approved without change.

EPA ICR Number 2300.06; Regulation to Establish Mandatory Reporting of Greenhouse Gases (Reconsideration Package); 40 CFR parts 86, 89, 90, 94, 98, 600, 1033, 1039, 1042, 1045, 1048, 1051, 1054 and 1065, was approved on 12/21/2010; OMB Number 2060-0629; expires on 11/30/2012; Approved without change.

EPA ICR Number 2185.04; State Review Framework; 40 CFR 70.4, 123.41 and 271.17(a), was approved on 12/21/2010; OMB Number 2020-0031; expires on 12/31/2013; Approved without change.

EPA ICR Number 2212.03; Minority Business Enterprise/Woman Business Enterprise (MBE/WBE) Utilization under Federal Grants Cooperative Agreements and Interagency Agreements (Reinstatement); 40 CFR part 33; was approved on 12/21/2010; OMB Number 2090-0025; expires on 12/31/2013; Approved without change.

EPA ICR Number 2300.08; Regulation to Establish Mandatory Reporting of Greenhouse Gases (Reconsideration Package); 40 CFR parts 86, 89, 90, 94, 98, 600, 1033, 1039, 1042, 1045, 1048, 1051, 1054 and 1065, was approved on 12/22/2010; OMB Number 2060-0629; expires on 11/30/2012; Approved without change.

EPA ICR Number 1663.07; Compliance Assurance Monitoring Program; 40 CFR part 64; was approved on 12/30/2010; OMB Number 2060-0376; expires on 12/31/2013; Approved without change.

Comment Filed

EPA ICR Number 2394.01; Control of Greenhouse Gas Emissions from New Motor Vehicles: Proposed Heavy-Duty Engine and Vehicle Standards (Proposed Rule); in 40 CFR parts 86, 1036 and 1037 and 49 CFR parts 523, 534 and 535; OMB filed comment on 12/08/2010.

EPA ICR Number 2369.01; NSPS for Sewage Sludge Incinerators; in 40 CFR part 60, subpart LLLL; OMB filed comment on 12/15/2010.

EPA ICR Number 1611.08; NESHAP for Chromium Emissions from Hard and Decorative Chromium Electroplating and Chromium Anodizing Tanks; in 40 CFR part 63, subparts A and N; OMB filed comment on 12/15/2010.

EPA ICR Number 1679.08; NESHAP for Marine Tank Vessel Loading Operations; in 40 CFR part 63, subparts A and Y; OMB filed comment on 12/15/2010.

EPA ICR Number 2410.01; NESHAP for Group I Polymers and Resins; in 40 CFR part 63, subpart U; OMB filed comment on 12/15/2010.

EPA ICR Number 2403.01; EG for Sewage Sludge Incinerators; in 40 CFR part 60, subpart MMMM; OMB filed comment on 12/15/2010.

Dated: January 3, 2011.
John Moses,
Director, Collections Strategies Division.

[FR Doc. 2011-110 Filed 1-6-11; 8:45 am]

BILLING CODE 6560-50-P